DEPARTMENT OF TRANSPORTATION

Federal Highway Administration

Intelligent Transportation Society of America; Public Meeting

AGENCY: Federal Highway Administration (FHWA), DOT.

ACTION: Notice of public meeting.

SUMMARY: The Intelligent Transportation Society of America (ITS AMERICA) will hold a meeting of its Board of Directors on Tuesday, August 20, 2002. The meeting runs from 8:30 a.m. to 1:30 p.m. The session includes the following items: (1) Call to Order; (2) Welcome, introductions, ITS America antitrust policy, conflict of interest statements; (3) Consent Agenda: (a) Approval of Minutes from May 2, 2002 Board Meeting; (b) Federal Report; (c) Finance Committee Report; (d) Approval of Bylaw Changes; (e) Homeland Security Task Force; (f) TEA-21 Reauthorization Task Force Report; (g) Council Reports: Coordinating Council; International Affairs; State Chapters; and Executive Forum for Business and Trade Report; (4) Chairman's Report; (5) President's Report; (6) Committee Appointments; (7) Dues and Revenue Task Force Report; and (8) DOT Program Advice; Proposed Intelligent Vehicle Initiative Advice Letter to U.S. DOT; (9) US DOT Program Advice: Homeland Security Supplement to 10-year ITS Program Plan; (10) Joint “Future of ITS” brochure by ITS America, ERTICO and ITS Asia-Pacific; (11) Board Retreat Action Items; (12) New Business; (13) Future Executive Committee & Board Meeting Schedule; (14) Adjournment.

ITS AMERICA provides a forum for national discussion and recommendations on ITS activities including programs, research needs, strategic planning, standards, international liaison, and priorities.

The charter for the utilization of ITS AMERICA establishes this organization as an advisory committee under the Federal Advisory Committee Act (FACA) 5 U.S.C. app. 2, when it provides advice or recommendations to DOT officials on ITS policies and programs. (56 FR 9400, March 6, 1991).

DATES: The Board of Directors of ITS AMERICA will meet on Tuesday, August 20, 2002, from 8 a.m.-1:30 p.m.

ADDRESSES: Hilton Palacio del Rio, 200 South Alamo, San Antonio, Texas 78205. Phone: (210) 222-1400 and Fax: (210) 270-0761.

FOR FURTHER INFORMATION CONTACT: Materials associated with this meeting may be examined at the offices of ITS AMERICA, 400 Virginia Avenue SW, Suite 800, Washington, DC 20024. Persons needing further information or who request to speak at this meeting should contact Debbie M. Busch at ITS AMERICA by telephone at (202) 484-2904 or by FAX at (202) 484-3483. The DOT contact is Kristy Frizzell, FHWA, HOIT, Washington, D.C. 20590, (202) 366-0722. Office hours are from 8:30 a.m. to 5 p.m., e.t., Monday through Friday, except for legal holidays.

(23 U.S.C. 315; 49 CFR 1.48)
Issued on: July 15, 2002.
Jeffrey F. Paniati,
Acting Associate Administrator, Office of Operations, Federal Highway Administration, and Acting Director, ITS Joint Program Office, U.S. Department of Transportation.

[FR Doc. 02-18217 Filed 7-18-02; 8:45 am]

BILLING CODE 4910-22-P